DEPARTMENT OF ENERGY

Federal Energy Regulatory Commission

[Docket No. PL04-6-000]

Solicitation Processes for Public Utilities; Notice of Technical Conference

May 11, 2004.

1. Take notice that a technical conference will be held on the solicitation processes for public utilities on June 10, 2004, from 9:30 a.m. to 12 p.m. (EST), in the Commission Meeting Room at the Federal Energy Regulatory Commission, 888 First Street, NE, Washington, DC. Members of the Commission will attend the conference. An agenda will be issued at a later time.

2. The topic of the conference will be issues associated with solicitation processes, including solicitations whereby public utilities sell to their affiliates. The conference will address proposals for best practice competitive solicitation methods or principles that could be used to ensure that transactions filed with the Commission for approval are the result of an open and fair process.

3. The conference will be transcribed. Those interested in acquiring the transcript should contact Ace Reporters at 202-347-3700 or 800-336-6646. Transcripts will be placed in the public record ten days after the Commission receives the transcripts. Additionally, Capitol Connection offers the opportunity for remote listening and viewing of the conference. It is available for a fee, live over the Internet, by phone or via satellite. Persons interested in receiving the broadcast, or who need information on making arrangements, should contact David Reininger or Julia Morelli at Capitol Connection (703-993-3100) as soon as possible or visit the Capitol Connection website at http://www.capitolconnection.org and click on “FERC.”

4. For more information about the conference, please contact Mary Beth Tighe at 202-502-6452 or mary.beth.tighe@ferc.gov.

5. A supplemental notice of this conference will be issued later that will provide details of the conference, including the panelists.

Magalie R. Salas,
Secretary.

Docket No. RM04-7-000

[FR Doc. E4-1175 Filed 5-14-04; 8:45 am]

BILLING CODE 6717-01-P